DEPARTMENT OF HEALTH AND HUMAN SERVICES

National Institutes of Health

National Toxicology Program Board of Scientific Counselors; Announcement of Meeting; Request for Comments

AGENCY: National Institutes of Health, HHS.

ACTION: Notice.

SUMMARY: This notice announces the next meeting of the National Toxicology Program (NTP) Board of Scientific Counselors (BSC). The BSC, a federally chartered, external advisory group composed of scientists from the public and private sectors, will review and provide advice on programmatic activities. This meeting is a virtual meeting and is open to the public. Written comments will be accepted, and registration is required to present oral comments.

DATES: Meeting: Scheduled for December 15, 2022, 1:30 p.m.-5:00 p.m. Eastern Standard Time (EST). Ending times are approximate; meeting may end earlier or run later. Written Public Comment Submissions: Deadline is December 08, 2022. Registration for Oral Comments: Deadline is December 08, 2022.

ADDRESSES: Meeting web page: The preliminary agenda, registration, and other meeting materials will be available at https://ntp.niehs.nih.gov/go/165 by November 10, 2022. Virtual Meeting: The URL for viewing the virtual meeting will be provided on the meeting web page the day before the meeting.

FOR FURTHER INFORMATION CONTACT: Dr. Milene Brownlow, Designated Federal Official for the BSC, Office of Policy, Review, and Outreach, Division of Translational Toxicology, NIEHS. Phone: 984-287-3364, Email: milene.brownlow@nih.gov. Hand Deliver/Courier address: 530 Davis Drive, Room K2161, Durham, NC 27713.

SUPPLEMENTARY INFORMATION: The BSC will provide input to the NTP on programmatic activities and issues. The preliminary agenda topics include presentations on three contract concepts: Chemistry, Toxicology, and Pathology Support Services for the NIEHS. The preliminary agenda, roster of BSC members, background materials, public comments, and any additional information, when available, will be posted on the BSC meeting web page (https://ntp.niehs.nih.gov/go/165) or may be requested in hardcopy from the Designated Federal Official for the BSC. Following the meeting, summary minutes will be prepared and made available on the BSC meeting web page.

Meeting Attendance Registration: The meeting is open to the public with time scheduled for oral public comments. Registration is not required to view the virtual meeting; the URL for the virtual meeting is provided on the BSC meeting web page (https://ntp.niehs.nih.gov/go/165), the day before the meeting. TTY users should contact the Federal TTY Relay Service at 800-877-8339. Requests should be made at least five business days in advance of the event.

Written Public Comments: NTP invites written public comments. Guidelines for public comments are available at https://ntp.niehs.nih.gov/ntp/about_ntp/guidelines_public_comments_508.pdf.

The deadline for submission of written comments is December 08, 2022. Written public comments should be submitted through the meeting web page. Persons submitting written comments should include name, affiliation, mailing address, phone, email, and sponsoring organization (if any). Written comments received in response to this notice will be posted on the NTP web page, and the submitter will be identified by name, affiliation, and sponsoring organization (if any).

Oral Public Comment Registration: The agenda allows for public comment periods on the agenda topics (up to five commenters per topic, up to five minutes per speaker per topic). Persons wishing to make an oral comment are required to register online at https://ntp.niehs.nih.gov/go/165 by December 08, 2022. Oral comments will be received only during the formal comment periods indicated on the preliminary agenda. Registration is on a first-come, first-served basis. Each organization is allowed one time slot per topic. After the maximum number of speakers is exceeded, individuals registered to provide oral comment will be placed on a wait list and notified should an opening become available. Commenters will be notified approximately one week before the meeting to provide logistical information for their presentations. If possible, oral public commenters should send a copy of their slides and/or statement or talking points to Ms. Robbin Guy by email: robbin.guy@nih.gov by December 08, 2022.

Meeting Materials: The preliminary meeting agenda will be available on the meeting web page (https://ntp.niehs.nih.gov/go/165) by November 10, 2022 and updated one week before the meeting. Individuals are encouraged to access the meeting web page to stay abreast of the most current information regarding the meeting.

Background Information on the BSC: The BSC is a technical advisory body comprised of scientists from the public and private sectors that provides primary scientific oversight to the NTP. Specifically, the BSC advises the NTP on matters of scientific program content, both present and future, and conducts periodic review of the program for the purpose of determining and advising on the scientific merit of its activities and their overall scientific quality. Its members are selected from recognized authorities knowledgeable in fields such as toxicology, pharmacology, pathology, epidemiology, risk assessment, carcinogenesis, mutagenesis, cellular biology, computational toxicology, neurotoxicology, genetic toxicology, reproductive toxicology or teratology, and biostatistics. Members serve overlapping terms of up to four years. The BSC usually meets periodically. The authority for the BSC is provided by 42 U.S.C. 217a, section 222 of the Public Health Service Act (PHS), as amended.

The BSC is governed by the provisions of the Federal Advisory Committee Act, as amended (5 U.S.C. app.), which sets forth standards for the formation and use of advisory committees.

Dated: October 31, 2022.
Brian R. Berridge,
Associate Director, National Toxicology Program.

[FR Doc. 2022-24000 Filed 11-3-22; 8:45 am]

BILLING CODE 4140-01-P